DEPARTMENT OF COMMERCE

National Oceanic and Atmospheric Administration

[I.D. 120100A]

Endangered and Threatened Species; Take of Anadromous Fish

AGENCY: National Marine Fisheries Service (NMFS), National Oceanic and Atmospheric Administration (NOAA), Commerce.

ACTION: Notice of availability and request for comment.

SUMMARY: Notice is hereby given that the Oregon Department of Fish and Wildlife (ODFW) has submitted a Fisheries Management and Evaluation Plan (FMEP) pursuant to the protective regulations promulgated for Upper Willamette River (UWR) spring chinook salmon under section 4(d) of the Endangered Species Act (ESA). The FMEP specifies the future management of inland recreational and commercial fisheries potentially affecting listed UWR spring chinook salmon. The Washington Department of Fish and Wildlife (WDFW) has submitted a Hatchery and Genetic Management Plan (HGMP) for Tucannon River summer steelhead pursuant to the same section 4(d) rule. The Tucannon HGMP describes an artificial propagation program designed to increase the abundance of the listed, indigenous steelhead stocks and to replace a composite, non-listed stock for fisheries enhancement and mitigation use. This document serves to notify the public of the availability of the FMEP and the HGMP for review and comment before a final approval or disapproval is made by NMFS.

DATES: Written comments or requests for a public hearing on the draft FMEP or HGMP must be received at the appropriate address or fax number (see ADDRESSES) no later than 5 p.m. Pacific standard time on January 26, 2001.

ADDRESSES: Written comments and requests for copies of the draft FMEP should be addressed to Lance Kruzic, Sustainable Fisheries Division, NWR2, 525 N.E. Oregon Street, Suite 510, Portland, OR 97232. Comments may also be sent via fax to 503-872-2737. Comments and requests for copies of the draft HGMP should be addressed to Herb Pollard, Sustainable Fisheries Division, Snake River Branch Office, 10215 W. Emerald. Boise, ID 83709, or faxed to 208-378-5699. The documents are also available on the internet at http://www.nwr.noaa.gov/. Comments will not be accepted if submitted via e-mail or the internet.

FOR FURTHER INFORMATION CONTACT: Lance Kruzic, Portland, OR at phone number: 503-231-2178, or e-mail: lance.kruzic@noaa.gov regarding the FMEP; or Herb Pollard, Boise, ID at phone number: 208-378-5614, or e-mail: herbert.pollard@noaa.gov regarding the HGMP.

SUPPLEMENTARY INFORMATION: The following evolutionarily significant units (ESUs) are covered in this notice: threatened Upper Willamette River Spring Chinook Salmon (Oncorhynchus tshawytscha), threatened Snake River Basin Steelhead (O. mykiss).

Background

Under section 4(d) of the ESA, the Secretary of Commerce is required to adopt such regulations as he deems necessary and advisable for the conservation of species listed as threatened. NMFS has issued a final ESA 4(d) Rule adopting regulations necessary and advisable to conserve the UWR spring chinook salmon and Snake River Basin steelhead (July 10, 2000; 65 FR 42422). This 4(d) rule applies the prohibitions enumerated in section 9(a)(1) of the ESA. NMFS did not find it necessary and advisable to apply the take prohibitions described in section 9(a)(1)(B) and 9(a)(1)(C) to fishery harvest activities and artificial propagation programs if managed in accordance with an FMEP or HGMP that has been approved by NMFS. As specified in the July 10, 2000, 4(d) rule, before a decision is made on an FMEP or HGMP, the public must have an opportunity to review and comment.

Draft FMEP Received

ODFW has submitted to NMFS an FMEP for inland recreational and commercial fisheries potentially affecting listed adult and juvenile UWR spring chinook salmon. This includes fisheries occurring in the Willamette River Basin and the mainstem Columbia River below the confluence of the Willamette River when spring chinook are migrating upstream. The objective of the FMEP is to harvest known, hatchery-origin spring chinook and other fish species in a manner that does not jeopardize the survival and recovery of the ESU. All fisheries included in the FMEP will be managed so that retention of spring chinook that are not externally marked (i.e., do not have a fin clipped) will be prohibited beginning in 2002. Only hatchery-origin spring chinook that are adipose fin clipped may be retained. Impact levels to listed spring chinook populations in the ESU due to catch and release are specified in the FMEP. Population viability analyses and risk assessments in the FMEP indicate the extinction risk for listed spring chinook under the proposed fishery impact levels to be less than 0.1 percent. A variety of monitoring and evaluation tasks are specified in the FMEP to assess the abundance of spring chinook, determine fishery effort and catch of spring chinook, and angler compliance. A comprehensive review of the FMEP to evaluate whether the fisheries and listed spring chinook populations are performing as expected will be done in 2004 and at 5 year intervals thereafter.

Draft HGMP Received

The HGMP submitted by WDFW describes an artificial propagation program that proposes to take 40 pairs of naturally produced steelhead adults as broodstock and produce 150,000 smolts of the native stock for release in the Tucannon River annually. The purposes of the program are: (1) to increase the abundance of the local, indigenous stock of steelhead; (2) to restore natural spawning escapements, and (3)to enhance fisheries opportunities if the program successfully restores spawning escapements and production.

Authority

Under section 4 of the ESA, the Secretary of Commerce is required to adopt such regulations as he deems necessary and advisable for the conservation of species listed as threatened. The ESA salmon and steelhead 4(d) rule (65 FR 42422, July 10, 2000) specifies categories of activities that contribute to the conservation of listed salmonids or are governed by a program that adequately limits impacts on listed salmonids. The criteria to be met by activities submitted under the salmon and steelhead ESA 4(d) rule are contained in that rule (65 FR 42422, July 10, 2000).

Approval of a FMEP or a HGMP shall be NMFS’ written approval by NMFS’ Northwest or Southwest Regional Administrator, as appropriate. Authority to take listed species is subject to the conditions set forth in the concurrence letter of the FMEP and HGMP which will specify the implementation and reporting requirements. Approval of FMEPs and HGMPs is granted in accordance with the salmon and steelhead 4(d) rule (65 FR 42422, July 10, 2000) and are subject to the ESA and NMFS regulations governing the take of listed species (50 CFR parts 222-226).

Those individuals requesting a hearing on the FMEP or HGMP listed in this notice should set out the specific reasons why a hearing on that FMEP or HGMP would be appropriate (see ADDRESSES). The holding of such hearing is at the discretion of the Assistant Administrator for Fisheries, NOAA. All statements and opinions contained in the permit action summaries are those of the applicant and do not necessarily reflect the views of NMFS.

Dated: December 20, 2000.
Wanda L. Cain,
Chief, Endangered Species Division, Office of Protected Resources, National Marine Fisheries Service.

[FR Doc. 00-33003 Filed 12-26-00; 8:45 am]

BILLING CODE 3510-22-S